FEDERAL MARITIME COMMISSION

[Docket No. 01-02]

Notice of Filing of Complaint and Assignment

In the matter of Transworld Shipping (USA), Inc. v. FMI Forwarding (San Francisco), Inc. a/k/a Inter-Maritime Forwarding Co. (San Francisco), Inc. and Inter-Maritime Forwarding Company, Incorporated—A Division of Union-Transport Corporation, a/k/a Inter-Maritime Forwarding Co., Inter-Maritime Container Line and Union-Transport Corporation; Notice of Filing of Complaint and Assignment.

Notice is given that a complaint has been filed with the Federal Maritime Commission (“Commission”), by Transworld Shipping (USA), Inc., (“Complainant”), against FMI Forwarding (San Francisco, Inc. a/k/a Inter-Maritime Forwarding Co. (San Francisco), Inc. (“FMI”), Inter-Maritime Forwarding Company, Incorporated A Division of Union-Transport Corporation, a/k/a Inter-Maritime Forwarding Co., Inter-Maritime Container Line (“IMF”); and Union-Transport Corporation (“Union-Transport) (collectively, “Respondents”).

Complainant is a non-vessel-operating common carrier Ocean Transportation Intermediary. Among other things, Complainant alleges that the Respondents violated sections 10(a)(1) and 10(d)(1) of the Shipping Act of 1984 and several of the Commission's freight forwarder regulations at 46 CFR part 515 by engaging in a pattern of deceit by booking cargo and mis-representing that ocean freight charges would be paid, thereby inducing Complainant to provide ocean transportation service and to advance credit when Respondents had no intent to, or were aware that payment would not be made to Complainant. Complainant further alleges that Respondents misrepresented business arrangements and engaged in a patter of delay in order to enable them to collect shipper freight charges that they would not have been able to obtain if the involved shippers and Complainant had been apprised of the true facts as to their future activities. Complainant further alleges that Respondents filed a petition for bankruptcy in order to obfuscate and obstruct creditors' investigation and recovery of funds. As a result of Respondents' violation, Complainant asserts that it has been unable to fully recover ocean freight charges and has been further required to expend substantial sums of money investigating the Respondents' activities.

Complainant asks that the Respondents be held liable to Complainant for damages in an amount determined by the Commission but no less than $22,630.76 plus prejudgment interests, costs and reasonable attorney's fees. Complainant also asks that the Commission award it such further and other relief as the Commission deems just and appropriate in the circumstances. Complainant requests that hearing be held either in Washington, DC or Los Angeles, CA.

This proceeding has been assigned to the office of Administrative Law Judges. Hearing in this matter, if any is held, shall commence within the time limitations prescribed in 46 CFR 502.61, and only after consideration has been given by the parties and the presiding officer to the use of alternative forms of dispute resolution. The hearing shall include oral testimony and cross-examination in the discretion of the presiding officer only upon proper showing that there are genuine issues of material fact that cannot be resolved on the basis of sworn statements, affidavits, depositions, or other documents or that the nature of the matter in issue is such that an oral hearing and cross-examination are necessary for the development of an adequate record. Pursuant to the further terms of 46 CFR 502.61, the initial decision of the presiding officer in this proceeding shall be issued by February 20, 2002, and the final decision of the Commission shall be issued by June 20, 2002.

Brian L. VanBrakle,
Secretary.

[FR Doc. 01-4930 Filed 3-2-01; 8:45 am]

BILLING CODE 6730-01-M